ENVIRONMENTAL PROTECTION AGENCY

[EPA-R08-OW-2019-0404; FRL-10648-01-R8]

Proposed Information Collection Request; Comment Request; Filter Adoption Survey Renewal

AGENCY: Environmental Protection Agency (EPA).

ACTION: Notice.

SUMMARY: The Environmental Protection Agency is planning to submit an information collection request (ICR) “Filter Adoption Survey” (EPA ICR No. 2615.02, OMB Control No. 2008-0003) to the Office of Management and Budget (OMB) for review and approval in accordance with the Paperwork Reduction Act (PRA). Before doing so, EPA is soliciting public comments on specific aspects of the proposed information collection as described below. This is a proposed extension of the ICR which is currently set to expire on 9/30/23. An Agency may not conduct or sponsor and a person is not required to respond to a collection of information unless it displays a currently valid OMB control number.

DATES: Comments must be submitted on or before April 18, 2023.

ADDRESSES: Submit your comments, identified by Docket ID No. EPA-R08-OW-2019-0404, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit www2.epa.gov/dockets/commenting-epa-dockets. Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Division, Environmental Protection Agency (EPA), Region 8, 1595 Wynkoop Street, Denver, Colorado 80202-1129. The EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Robert Parker, Section Chief, Drinking Water Section B, Water Division, 8WD-SDB, Environmental Protection Agency Region 8, 1595 Wynkoop Street, Denver, Colorado 80202-1129 telephone number: (303) 312-6664; email address: parker.robert@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register document to announce the submission of the ICR to OMB and the opportunity to submit additional comments to OMB.

Abstract: Denver Water is a public water system which must comply with applicable requirements of the lead and copper rule (LCR). On September 6, 2019 Denver Water submitted to the U.S. Environmental Protection Agency Region 8 office a request for a variance from the optimal corrosion control treatment requirements under the Safe Drinking Water Act's LCR (2019 Variance). The request included a multi-pronged approach to result in at least as efficient lead removal to orthophosphate, the designated optimal corrosion control treatment. Three of those prongs of the variance request are: pH and alkalinity adjustments to reduce corrosivity of the water; accelerated lead service line removal; and a filter program where Denver Water will distribute pitcher filters to consumers with confirmed, likely, and unlikely lead service lines. Under section 1415(a)(3) of the Safe Drinking Water Act, on December 16, 2019, the U.S. EPA granted Denver Water a variance from the definition of “optimal corrosion control treatment” in 40 CFR 141.2. The 2019 Variance contains requirements to determine the efficacy of the filter program. On November 30, 2022, EPA issued a new variance (Variance) because the 2019 Variance was set to expire in 2023. Denver Water, EPA and CDPHE agreed that a survey that would be conducted every two years (rather than annually) beginning in 2025 would be sufficient to determine efficacy of the filter program. EPA will continue to use the 2025 survey results that Denver Water collects, to determine the consumer filter adoption rate, and to confirm whether customers are using and maintaining the filters correctly, and per manufacturer's instructions. Every second year, the filter adoption survey will be sent by Denver Water via postal mail to an estimated 20,000 statistically representative number of consumers that have confirmed, likely, and unlikely lead service lines. Surveys will be sent via direct mailings and will include an online completion option (the survey questions are included below). Direct mailings will be sent with a unique QR code to track which addresses responses have been received from. Surveys will be sent out in both English and Spanish. Additionally, Denver Water will conduct, in-person surveys at a minimum of 50 locations in use by customers enrolled in the filter program every six months. Information being collected is information on if, and how, consumers use the filter (e.g., for drinking, cooking, or making infant-fed formula), whether the customers are using and maintain the filters correctly (e.g. washing, replacing the filters per manufacturer's instructions), as well as demographic information to inform filter adoption rate by neighborhood or demographic group so Denver Water's health equity and environmental justice principles set forth in their variance request can be evaluated.

Form numbers: 6700-009.

Respondents/affected entities: 2,000 people (estimated).

Respondent's obligation to respond: Voluntary.

Estimated number of respondents: 2,000 (estimated).

Frequency of response: 2025 and every second year after that.

Total estimated burden: 423 hours.

Total estimated cost: $33,421 in 2025.

BILLING CODE 6560-50-P

Dated: February 10, 2023.
Sarah Bahrman,
Chief, Safe Drinking Water Branch.

[FR Doc. 2023-03434 Filed 2-16-23; 8:45 am]

BILLING CODE 6560-50-C